SECURITIES AND EXCHANGE COMMISSION

[Release 34-42335; File No. 600-23]

Self-Regulatory Organizations; Government Securities Clearing Corporation; Notice of Filing and Order Extending Temporary Registration as a Clearing Agency

January 12, 2000.

Notice is hereby given that on December 30, 1999, the Government Securities Clearing Corporation (“GSCC”) filed with the Securities and Exchange Commission (“Commission”) an application pursuant to Section 19(a) of the Securities Exchange Act of 1934 (“Act”) ¹ requesting that the Commission grant GSCC full registration as a clearing agency or in the alternative extend GSCC temporary registration as a clearing agency until such time as the Commission is able to grant GSCC permanent registration.² The Commission is publishing this notice and order to solicit comments from interested persons and to extend GSCC's temporary registration as a clearing agency through July 31, 2000.

¹ 15 U.S.C. 78s(a).

² Letter from Sal Ricca, President and Chief Operating Officer, GSCC (December 30, 1999).

On May 24, 1988, pursuant to Sections 17A(b) and 19(a) of the Act ³ and Rule 17Ab2-1 promulgated thereunder,⁴ the Commission granted GSCC registration as a clearing agency on a temporary basis for a period of three years.⁵ The Commission subsequently has extended GSCC's registration through January 14, 2000.⁶

³ 15 U.S.C. 78q-1(b) and 78s(a).

⁴ 17 CFR 240.17Ab2-1.

⁵ Securities Exchange Act Release No. 25740 (May 24, 1988), 53 FR 19639.

⁶ Securities Exchange Act Release Nos. 29067 (April 11, 1991), 56 FR 15652; 32385 (June 3, 1993), 58 FR 32405; 35787 (May 31, 1995), 60 FR 30324; 36508 (November 27, 1995), 60 FR 61719; 37983 (November 25, 1996), 61 FR 64183; 38698 (May 30, 1997), 62 FR 30911; 39696 (February 24, 1998), 63 FR 10253; 41104 (February 24, 1999), 64 FR 10510; and 41805 (August 27, 1999), 64 FR 48682.

In the most recent extension of GSCC's temporary registration, the Commission stated that it planned in the near future to seek comment on granting GSCC permanent registration as a clearing agency. This extension of GSCC's temporary registration will enable the Commission to do so within the next few months.

Interested persons are invited to submit written data, views, and arguments with respect to whether the Commission should grant GSCC permanent registration as a clearing agency. Persons making written submissions should file six copies thereof with the Secretary, Securities and Exchange Commission, 450 Fifth Street, N.W., Washington, D.C. 20549-0609. Copies of the amended application for registration and all written comments will be available for inspection at the Commission's Public Reference Room, 450 Fifth Street, N.W., Washington, D.C. 20549. All submissions should refer to File No. 600-23 and should be submitted by February 11, 2000.

IT IS THEREFORE ORDERED pursuant to Sections 17A(b) and 19(a) of the Act that GSCC's temporary registration as a clearing agency (File No. 600-23) be and hereby is extended through July 31, 2000.

For the Commission, by the Division of Market Regulation, pursuant to delegated authority.⁷

⁷ 17 CFR 200.30-3(a)(16).

Margaret H. McFarland,
Deputy Secretary.

[FR Doc. 00-1478 Filed 1-20-00; 8:45 am]

BILLING CODE 8010-01-M